CONSUMER PRODUCT SAFETY COMMISSION

Notification of Request for Extension of Approval of Information Collection Activity—Customer Satisfaction Surveys

AGENCY: Consumer Product Safety Commission.

ACTION: Notice.

SUMMARY: In the May 29, 2008, Federal Register (73 FR 30883), the Consumer Product Safety Commission (CPSC or Commission) published a notice in accordance with provisions of the Paperwork Reduction Act of 1995 (44 U.S.C. Chapter 35) (PRA), to announce the agency's intention to seek extension of its PRA approval to conduct surveys to determine the kind and quality of services CPSC customers want and customers' level of satisfaction with existing services. The Commission now announces that it has submitted to the Office of Management and Budget (OMB) a request for extension of approval of that collection of information.

These customer surveys are used by the CPSC Office of Financial Management, Planning and Evaluation to prepare sections of the agency's annual performance plan and accountability report in accordance with the Government Performance and Results Act of 1993. The information from the surveys will provide measures of the quality and effectiveness of agency efforts related to three goals in its strategic plan: Informing the public, industry services, and customer satisfaction. If this information is not collected, the Commission would not have the means to measure its effectiveness in providing useful services to consumers and others, and lack information necessary to guide program development.

Additional Information About the Request for Extension of Approval of Information Collection Activity

Title of information collection: Customer Satisfaction Surveys: fast-track recall survey; ombudsman survey, state partner survey, hotline survey, Web site survey and clearinghouse survey.

Type of request: Extension of approval.

Frequency of collection: Each survey will be conducted once during a 3-year period.

General description of respondents: (1) Consumers that telephone the Hotline or access the CPSC Web site via the Internet to report product-related incidents, or to obtain information on recent product recalls; (2) consumers, industry members, or others that contact the National Injury Information Clearinghouse for information; (3) State representatives who work with CPSC on cooperative programs; (4) firms that use CPSC's Fast-Track Product Recall Program to report and simultaneously propose satisfactory product recall plans; and (5) small businesses that seek information or assistance from the CPSC's small business ombudsman.

Estimated number of respondents: 684 per year.

Estimated average number of responses per respondent: One per year.

Estimated number of responses for all respondents: 684 per year.

Estimated number of hours for all respondents: 65 hours per year.

Estimated cost of collection for all respondents: $1,821 per year.

Comments: Comments on this request for extension of approval of an information collection activity should be submitted by October 2, 2008, to the (1) Office of Information and Regulatory Affairs, Attn: OMB Desk Officer for CPSC, Office of Management and Budget, Washington, DC 20503; telephone: (202) 395-7340, and (2) by e-mail to the Office of the Secretary, Consumer Product Safety Commission, at cpsc-os@cpsc.gov. Comments may also be sent by facsimile to (301) 504-0127, or by mail to the Office of the Secretary, Consumer Product Safety Commission, 4330 East-West Highway, Bethesda, MD 20814, telephone (301) 504-7923.

Copies of this request for approval of information collection and supporting documentation are available from Linda Glatz, Division of Policy and Planning, Office of Information Technology and Technology Services, Consumer Product Safety Commission, 4330 East-West Highway, Bethesda, MD 20814; telephone: (301) 504-7671 or by e-mail to lglatz@cpsc.gov.

Dated: August 26, 2008.
Todd A. Stevenson,
Secretary, Consumer Product Safety Commission.

[FR Doc. E8-20284 Filed 8-29-08; 8:45 am]

BILLING CODE 6355-01-P